DEPARTMENT OF ENERGY

[EERE 2018-AM-00XX]

Agency Information Collection Extension

AGENCY: Office of Energy Efficiency and Renewable Energy, Department of Energy (DOE).

ACTION: Notice.

SUMMARY: The Department of Energy has submitted an information collection package to the OMB for extension under the provisions of the Paperwork Reduction Act of 1995. The package requests a three-year extension of its “Superior Energy Performance (SEP) Certification and 50001 Ready Recognition,” OMB Control Number 1910-5177. The proposed collection of information relates to tracking partner participation and calculating the energy efficiency impact of DOE's Superior Energy Performance certification and 50001 Ready recognition programs.

DATES: Comments regarding this collection must be received on or before May 18, 2018. If you anticipate that you will be submitting comments, but find it difficult to do so within the period of time allowed by this notice, please advise the OMB Desk Officer of your intention to make a submission as soon as possible. The Desk Officer may be telephoned at 202-395-4650 or contacted by email at chad_s_whiteman@omb.eop.gov.

ADDRESSES: Written comments should be sent to the: Desk Officer for the Department of Energy, Office of Information and Regulatory Affairs, Office of Management and Budget, New Executive Office Building, Room 10102, 735 17th Street NW, Washington, DC 20503.

And to: Mr. Paul Scheihing, Office of Energy Efficiency and Renewable Energy (EE-5A), U.S. Department of Energy, 1000 Independence Avenue SW, Washington, DC 20585, or by fax at 202-586-9234, or by email at paul.scheihing@ee.doe.gov.

FOR FURTHER INFORMATION CONTACT: Requests for additional information or copies of the information collection instrument and instructions should be directed to Mr. Paul Scheihing at the contact information listed above or phone at 202-586-7234.

SUPPLEMENTARY INFORMATION: This package contains: (1) OMB No. 1910-5177; (2) Information Collection Request Title: Department of Energy Superior Energy Performance (SEP) Certification and 50001 Ready Recognition; (3) Type of Review: Renewal; (4) Purpose: This Information Collection Request applies to the Department of Energy (DOE) voluntary ISO 50001 programs for industrial facilities: Superior Energy Performance® (SEP®) and 50001 Ready™ recognition. SEP is an energy efficiency certification and recognition program for commercial, institutional, and industrial facilities demonstrating excellence in energy management as well as continual improvement in energy efficiency through third-party verified energy performance. 50001 Ready recognition is a self-attestation of the implementation of an ISO 50001 energy management system without the need for external audits.

DOE's 50001 Ready provides an on-ramp towards SEP certification. It is a self-guided approach for facilities to establish an energy management system and self-attest to the structure of the ISO 50001 energy management system. SEP certification builds on ISO 50001 provides a rigorous, internationally-recognized business process for companies to continually improve their energy performance. The SEP third-party verification of energy performance improvement is unique in the marketplace, and assists to differentiate certified companies from their competitors. This request for information consists of a voluntary data collection process for SEP participation: to manage and track certification cycles, and provide recognition for verified energy performance improvements. 50001 Ready collects a minimal amount of self-attested information to manage and track recognition cycles and to recognize the achievements of its participants.

The following types of information are collected from primary participants: (1) Background data, including contact information and basic information and basic facility information about its energy use, energy consumption, and energy performance indicators—collected in the SEP Application Form; (2) Information on energy performance improvement in SEP-certified facilities—collected in the SEP Energy Performance Improvement Report. 50001 Ready collects only a subset of the same types of information, and without the need for external audit. Background data will primarily be used to track basic information about SEP and 50001 Ready participants and identify opportunities to provide participants with technical assistance. Basic information about a facility's energy use, energy consumption, and energy performance indicators will be used to administer SEP and 50001 Ready. Information on energy performance improvement will be used by DOE to manage and track participation cycles, and to track the results of participation in SEP and 50001 Ready. Responses to the DOE's Information Collection Request will be voluntary. (5) Annual Estimated Number of Respondents: 233; (6) Annual Estimated Number of Responses: 233; (7) Annual Estimated Number of Burden Hours: 333; (8) Annual Estimated Reporting and Recordkeeping Cost Burden: $18,667.

Statutory Authority: Accelerating Investment in Industrial Energy Efficiency. Executive Order 13624, 77 FR 54779 (Aug. 30, 2012); 42 U.S.C. 16191.

Issued in Washington, DC, on: April 9, 2018.
Paul Scheihing,
Technology Manager, Advanced Manufacturing Office, Energy Efficiency and Renewable Energy.

[FR Doc. 2018-08108 Filed 4-17-18; 8:45 am]

BILLING CODE 6450-01-P